DEPARTMENT OF DEFENSE

Department of the Army

32 CFR Part 501

Employment of Troops in Aid of Civil Authorities

AGENCY: Department of the Army, DoD.

ACTION: Final rule.

SUMMARY: This action removes 32 CFR Part 501, Employment of Troops in Aid of Civil Authorities. The regulations are being removed because they are obsolete and no longer govern policies for the Department of the Army in planning and operations involving the use of Army resources in the control of actual or anticipated civil disturbances. The program responsibility has been transferred to the Office of the Assistant Secretary of Defense for Homeland Defense.

DATES: Effective April 30, 2008.

ADDRESSES: Department of the Army, Office of the Deputy Chief of Staff, G-3/5/7, DAMO-ODS, 400 Army Pentagon, Washington, DC 20310-0400.

FOR FURTHER INFORMATION CONTACT: Ms. Loretta Phillips, (703) 692-7459.

SUPPLEMENTARY INFORMATION: The responsibility for this program was originally with the Department of the Army and was published as 32 CFR Part 501. The program responsibility was transferred to the Office of the Assistant Secretary of Defense for Homeland Defense and is now covered by DoD Directive 3025.12, Employment of Military Resources in the Event of Civil Disturbances which replaces the requirements formerly set forth. Therefore, to avoid confusion with the public, 32 CFR Part 501 is removed.

List of Subjects in 32 CFR Part 501

Armed forces, Civil disorders, Intergovernmental relations, Law enforcement, Military law.

PART 501—[REMOVED]

Accordingly, for reasons stated in the preamble, under the authority of Sections 331, 332, 333, and 3012 70A Stat. 15, 157; 10 U.S.C. 331, 332, 333, 3012, 32 CFR part 501, Employment of Troops in Aid of Civil Authorities, is removed in its entirety.

Brenda S. Bowen,
Army Federal Register Liaison Officer.

[FR Doc. E8-9438 Filed 4-29-08; 8:45 am]

BILLING CODE 3710-08-P